DEPARTMENT OF THE INTERIOR

Fish and Wildlife Service

50 CFR Part 92

RIN 1018-AU59

Migratory Bird Subsistence Harvest in Alaska; Harvest Regulations for Migratory Birds in Alaska During the 2007 Season

AGENCY: Fish and Wildlife Service, Interior.

ACTION: Proposed rule.

SUMMARY: The U.S. Fish and Wildlife Service (Service or we) is proposing migratory bird subsistence harvest regulations in Alaska for the 2007 season. This proposed rule would establish regulations that prescribe frameworks, or outer limits, for dates when harvesting of birds may occur, species that can be taken, and methods and means that would be excluded from use. These regulations were developed under a co-management process involving the Service, the Alaska Department of Fish and Game, and Alaska Native representatives. These regulations are intended to provide a framework to enable the continuation of customary and traditional subsistence uses of migratory birds in Alaska. The rulemaking is necessary because the regulations governing the subsistence harvest of migratory birds in Alaska are subject to annual review. This rulemaking proposes regulations that go into effect on April 2, 2007, and expire on August 31, 2007.

DATES: You must submit comments on the proposed subsistence harvest regulations for migratory birds in Alaska by February 12, 2007.

ADDRESSES: Submit your comments on this proposed rule in one of the following ways:

1. By mail addressed to the Regional Director, Alaska Region, U.S. Fish and Wildlife Service, 1011 E. Tudor Road, Anchorage, AK 99503.

2. By fax to (907) 786-3306.

3. By e-mail to ambcc@fws.gov.

4.Via the Federal e-rulemaking portal at http://www.regulations.gov. Follow the instructions on the site for submitting comments.

FOR FURTHER INFORMATION CONTACT: Fred Armstrong, (907) 786-3887, or Donna Dewhurst, (907) 786-3499, U.S. Fish and Wildlife Service, 1011 E. Tudor Road, Mail Stop 201, Anchorage, AK 99503.

SUPPLEMENTARY INFORMATION:

Background

How Do I Find the History of These Proposed Regulations?

Background information, including past events leading to this action, accomplishments since the amended Migratory Bird Treaties with Canada and Mexico were amended, and a history of addressing conservation issues can be found in the following Federal Register notices: August 16, 2002 (67 FR 53511), July 21, 2003 (68 FR 43010), April 2, 2004 (69 FR 17318), April 8, 2005 (70 FR 18244), and February 28, 2006 (71 FR 10404). These documents are readily available at http://alaska.fws.gov/ambcc/regulations.htm.

Why Is This Current Rulemaking Necessary?

This current rulemaking is necessary because the migratory bird harvest season is closed unless opened, and the regulations governing subsistence harvest of migratory birds in Alaska are subject to public review and annual approval. The Co-management Council held a meeting in April 2006 to develop recommendations for changes effective for the 2007 harvest season. These recommendations were presented to the Service Regulations Committee (SRC) on July 26 and 27, 2006, and were approved.

This rule proposes regulations for the taking of migratory birds for subsistence uses in Alaska during 2007. This rule proposes to list migratory bird species that are open or closed to harvest, as well as season openings and closures by region, and a change to the Fairbanks North Star Borough excluded area. It also describes a change in the methods and means of taking migratory birds for subsistence purposes.

How Will the Service Continue To Ensure That the Subsistence Harvest Will Not Raise Overall Migratory Bird Harvest?

The Service has an emergency closure provision (§ 92.21), so that if any significant increases in harvest are documented for one or more species in a region, an emergency closure can be requested and implemented. Eligibility to harvest under the regulations established in 2003 was limited to permanent residents, regardless of race, in villages located within the Alaska Peninsula, Kodiak Archipelago, the Aleutian Islands and in areas north and west of the Alaska Range (§ 92.5). These geographical restrictions opened the initial subsistence migratory bird harvest to only about 13 percent of Alaska residents. High-population areas such as Anchorage, the Matanuska-Susitna and Fairbanks North Star boroughs, the Kenai Peninsula roaded area, the Gulf of Alaska roaded area and Southeast Alaska were excluded from the eligible subsistence harvest areas.

Based on petitions requesting inclusion in the harvest, in 2004, we added 13 additional communities based on the five criteria set forth in § 92.5(c). These communities included: Gulkana, Gakona, Tazlina, Copper Center, Mentasta Lake, Chitina, Chistochina, Tatitlek, Chenega, Port Graham and Nanwalek, Tyonek and Hoonah, populations totaling 2,766. In 2005, we added three additional communities for glaucous-winged gull egg gathering only, based on petitions requesting inclusion. These southeastern communities included Craig, Hydaburg, and Yakutat, with a combined population of 2,459. These new regions increased the percentage of the State population included in the subsistence bird harvest only to 14 percent.

In this proposed rule, we have incorporated the Alaska Department of Fish and Game's (ADFG) request to expand the Fairbanks North Star Borough excluded area to the Central Interior excluded area comprising the following: That portion of Unit 20(A) east of the Wood River drainage and south of Rex Trail, including the upper Wood River drainage south of its confluence with Chicken Creek; that portion of Unit 20(C) east of Denali National Park north to Rock Creek and east to Unit 20(A); and that portion of Unit 20(D) west of the Tanana River between its confluence with the Johnson and Delta Rivers, west of the east bank of the Johnson River, and north and west of the Volmar drainage, including the Goodpaster River drainage.

The purpose of the ADFG's petition is to prevent new traditions and increased harvest levels that could result from inclusion of communities that have not traditionally hunted migratory birds in the spring and summer for subsistence. Specifically, this petition would exclude residents of Delta Junction/Big Delta/Fort Greely, McKinley Park/Village, Healy and Ferry from eligibility to participate in spring/summer migratory bird subsistence hunts. The justification for this proposal includes the substantial opposition to spring hunting in the Delta Junction area, particularly to hunting on agricultural lands that attract large number of waterfowl and cranes, and that there is no evidence that there has been a tradition of spring/summer subsistence migratory bird hunting in the proposed excluded area. ADFG also cited the action by the Alaska Joint Boards of Fisheries and Game in 1992 creating the Fairbanks Non-subsistence area as an additional rationale for this proposal. The report focused on a socio-economic study that was conducted to determine whether or not subsistence traits existed in the Fairbanks region to justify it being considered for a subsistence eligible area. The summary report recommended the Fairbanks area be considered a nonsubsistence use area. The study was based on the application of 12 socio-economic factors to each community to determine whether or not subsistence-related traits existed.

In addition, we propose to clarify the definition of excluded areas to explain that persons living in excluded areas are not eligible to participate in the Alaska spring/summer subsistence harvest and that the excluded area is closed to harvesting.

Subsistence harvest has been monitored for the past 15 years through the use of annual household surveys in the most heavily used subsistence harvest areas, e.g., Yukon/Kuskokwim Delta. Continuation of this monitoring would enable tracking of any major changes or trends in levels of harvest and user participation after legalization of the harvest. OMB initially approved the information collection on October 2, 2003, and assigned OMB control number 1018-0124, which expires on October 31, 2006. In the June 21, 2006, Federal Register (71 FR 35690), we published a notice of request to renew OMB approval of the Alaska Subsistence Harvest Survey.

What Is the Proposed Change to the Methods and Means Prohibitions for 2007?

When we established the initial methods and means regulations (68 FR 43010, July 21, 2003), we followed the Co-management Council recommendation to adopt those existing methods and means prohibitions that occur in the Federal (50 CFR 20.21) and Alaska (5AAC92.100) migratory bird hunting regulations and that do not conflict with the customary and traditional methods of taking birds. In this proposed rule, we have incorporated the ADFG's request to prohibit baiting and shooting over a baited area (Statewide).

What Is the Proposed Change to the List of Birds Open to Harvest for 2007?

At the request of the North Slope Borough Fish and Game Management Committee, the Co-management Council recommended continuing into 2007 the provisions originally established in 2005 to allow subsistence use of yellow-billed loons inadvertently caught in subsistence fishing (gill) nets on the North Slope. Yellow-billed loons are culturally important for the Inupiat Eskimo of the North Slope for use in traditional dance regalia. A maximum of 20 yellow-billed loons maybe caught in 2007 pursuant to this provision. Individual reporting to the North Slope Borough Department of Wildlife is required by the end of each season. In addition, the North Slope Borough has asked fishermen, through announcements on the radio and through personal contact, to report all entanglements of loons to better estimate the levels of injury or mortality caused by gill nets. In 2006, four yellow-billed loons were reported taken in fishing nets and an additional one was found alive in a net and released. This provision, to allow subsistence possession and use of yellow-billed loons caught in fishing gill nets, is subject to annual review and renewal by the SRC.

Public Comments Solicited

The Department of the Interior's policy is, whenever practicable, to afford the public an opportunity to participate in the rulemaking process. If you wish to comment, you may submit comments by any one of the methods indicated under the caption ADDRESSES.

Our practice is to make comments, including names and home addresses of respondents, available for public review during regular business hours. Individual respondents may request that we withhold their home addresses from the rulemaking record, which we will honor to the extent allowable by law. In some circumstances, we will also withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. You may inspect comments received on the proposed regulations during normal business hours at the Service's office in Anchorage, Alaska (see ADDRESSES).

In developing the final rule, we will consider each comment received during the public comment period. In the final rule, we may not respond in detail to each comment received during the comment period, but we will summarize all comments received and respond to them.

Statutory Authority

We derive our authority to issue these regulations from the Migratory Bird Treaty Act of 1918, U.S.C. 712(1), which authorizes the Secretary of the Interior, in accordance with the treaties with Canada, Mexico, Japan, and Russia, to “issue such regulations as may be necessary to assure that the taking of migratory birds and the collection of their eggs, by the indigenous inhabitants of the State of Alaska, shall be permitted for their own nutritional and other essential needs, as determined by the Secretary of the Interior, during seasons established so as to provide for the preservation and maintenance of stocks of migratory birds.”

Executive Order 12866

Executive Order 12866 requires each agency to write regulations that are easy to understand. We invite your comments on how to make this rule easier to understand, including answers to questions such as the following:

(1) Are the requirements in the rule clearly stated?

(2) Does the rule contain technical language or jargon that interferes with its clarity?

(3) Does the format of the rule (grouping and order of sections, use of headings, paragraphing, etc.) aid or reduce its clarity?

(4) Would the rule be easier to understand if it were divided into more (but shorter) sections?

(5) Is the description of the rule in the SUPPLEMENTARY INFORMATION section of the preamble helpful in understanding the rule?

(6) What else could we do to make the rule easier to understand?

Send a copy of any comments regarding how we could make this rule easier to understand to: Office of Regulatory Affairs, Department of the Interior, Room 7229, 1849 C Street NW., Washington, DC 20240. You may also e-mail the comments to this address: Exsec@ios.doi.gov.

The Office of Management and Budget (OMB) has determined that this document is not a significant rule subject to OMB review under Executive Order 12866.

(a) This rule will not have an annual economic effect of $100 million or more or adversely affect an economic sector, productivity, jobs, the environment, or other units of government. The rule does not provide for new or additional hunting opportunities and therefore will have minimal economic or environmental impact. This rule benefits those participants who engage in the subsistence harvest of migratory birds in Alaska in two identifiable ways: First, participants receive the consumptive value of the birds harvested; and second, participants get the cultural benefit associated with the maintenance of a subsistence economy and way of life. The Service can estimate the consumptive value for birds harvested under this rule but does not have a dollar value for the cultural benefit of maintaining a subsistence economy and way of life.

The economic value derived from the consumption of the harvested migratory birds has been estimated using the results of a paper by Robert J. Wolfe titled “Subsistence Food Harvests in Rural Alaska, and Food Safety Issues” (August 13, 1996). Using data from Wolfe's paper and applying it to the areas that will be included in this process, we determined a maximum economic value of $6 million. This is the estimated economic benefit of the consumptive part of this rule for participants in subsistence hunting. The cultural benefits of maintaining a subsistence economy and way of life can be of considerable value to the participants, and these benefits are not included in this figure.

(b) This rule will not create inconsistencies with other agencies' actions. We are the Federal agency responsible for the management of migratory birds, coordinating with the State of Alaska's Department of Fish and Game on management programs within Alaska. The State of Alaska is a member of the Alaska Migratory Bird Co-management Council.

(c) This rule will not materially affect entitlements, grants, user fees, loan programs, or the rights and obligations of their recipients. The rule does not affect entitlement programs.

(d) This rule will not raise novel legal or policy issues. The subsistence harvest regulations will go through the same national regulatory process as the existing migratory bird hunting regulations in 50 CFR part 20.

Regulatory Flexibility Act

The Department of the Interior certifies that this rule will not have a significant economic effect on a substantial number of small entities as defined under the Regulatory Flexibility Act (5 U.S.C. 601 et seq.). An initial regulatory flexibility analysis is not required. Accordingly, a Small Entity Compliance Guide is not required. The rule legalizes a pre-existing subsistence activity, and the resources harvested will be consumed by the harvesters or persons within their local community.

Small Business Regulatory Enforcement Fairness Act

This rule is not a major rule under 5 U.S.C. 804(2), the Small Business Regulatory Enforcement Fairness Act, as discussed in the Executive Order 12866 section above.

(a) This rule will not have an annual effect on the economy of $100 million or more. It will legalize and regulate a traditional subsistence activity. It will not result in a substantial increase in subsistence harvest or a significant change in harvesting patterns. The commodities being regulated under this rule are migratory birds. This rule deals with legalizing the subsistence harvest of migratory birds and, as such, does not involve commodities traded in the marketplace. A small economic benefit from this rule derives from the sale of equipment and ammunition to carry out subsistence hunting. Most, if not all, businesses that sell hunting equipment in rural Alaska would qualify as small businesses. We have no reason to believe that this rule will lead to a disproportionate distribution of benefits.

(b) This rule will not cause a major increase in costs or prices for consumers; individual industries; Federal, State, or local government agencies; or geographic regions. This rule does not deal with traded commodities and, therefore, does not have an impact on prices for consumers.

(c) This rule does not have significant adverse effects on competition, employment, investment, productivity, innovation, or the ability of U.S.-based enterprises to compete with foreign-based enterprises. This rule deals with the harvesting of wildlife for personal consumption. It does not regulate the marketplace in any way to generate effects on the economy or the ability of businesses to compete.

Unfunded Mandates Reform Act

We have determined and certified pursuant to the Unfunded Mandates Reform Act (2 U.S.C. 1501 et seq.) that this rule will not impose a cost of $100 million or more in any given year on local, State, or tribal governments or private entities. A statement containing the information required by this Act is therefore not necessary. Participation on regional management bodies and the Co-management Council will require travel expenses for some Alaska Native organizations and local governments. In addition, they will assume some expenses related to coordinating involvement of village councils in the regulatory process. Total coordination and travel expenses for all Alaska Native organizations are estimated to be less than $300,000 per year. In the Notice of Decision (65 FR 16405, March 28, 2000), we identified 12 partner organizations (Alaska Native non-profits and local governments) to administer the regional programs. The Alaska Department of Fish and Game will also incur expenses for travel to Co-management Council and regional management body meetings. In addition, the State of Alaska will be required to provide technical staff support to each of the regional management bodies and to the Co-management Council. Expenses for the State's involvement may exceed $100,000 per year, but should not exceed $150,000 per year. When funding permits, we make annual grant agreements available to the partner organizations and the Alaska Department of Fish and Game to help offset their expenses.

Paperwork Reduction Act

This rule has been examined under the Paperwork Reduction Act of 1995 and has been found to contain no information collection requirements. We have, however, received OMB approval of associated voluntary annual household surveys used to determine levels of subsistence take. The OMB control number for the information collection is 1018-0124, which expires on October 31, 2006. An agency may not conduct or sponsor, and a person is not required to respond to, a collection of information unless it displays a currently valid OMB control number.

Federalism Effects

As discussed in the Executive Order 12866 and Unfunded Mandates Reform Act sections above, this rule does not have sufficient federalism implications to warrant the preparation of a Federalism Assessment under Executive Order 13132. We worked with the State of Alaska on development of these regulations.

Civil Justice Reform—Executive Order 12988

The Department, in promulgating this rule, has determined that it will not unduly burden the judicial system and that it meets the requirements of sections 3(a) and 3(b)(2) of Executive Order 12988.

Takings Implication Assessment

This rule is not specific to particular land ownership, but applies to the harvesting of migratory bird resources throughout Alaska. Therefore, in accordance with Executive Order 12630, this rule does not have significant takings implications.

Government-to-Government Relations With Native American Tribal Governments

In accordance with the President's memorandum of April 29, 1994, “Government-to-Government Relations With Native American Tribal Governments” (59 FR 22951), and Executive Order 13175 (65 FR 67249, November 6, 2000), concerning consultation and coordination with Indian Tribal Governments, we have consulted with Alaska tribes and evaluated the rule for possible effects on tribes or trust resources, and have determined that there are no significant effects. The rule will legally recognize the subsistence harvest of migratory birds and their eggs for tribal members, as well as for other indigenous inhabitants.

Endangered Species Act Consideration

Prior to issuance of annual spring and summer subsistence regulations, we will consider provisions of the Endangered Species Act of 1973, as amended (16 U.S.C. 1531-1543; hereinafter the Act), to ensure that harvesting is not likely to jeopardize the continued existence of any species designated as endangered or threatened, or modify or destroy its critical habitats, and that it is consistent with conservation programs for those species. Consultations under Section 7 of the Act conducted in connection with the environmental assessment for the annual subsistence take regulations may cause us to change these regulations. Our biological opinion resulting from the Section 7 consultation is a public document available for public inspection at the address indicated under the caption ADDRESSES.

National Environmental Policy Act Consideration

The annual regulations and options were considered in the Environmental Assessment, “Managing Migratory Bird Subsistence Hunting in Alaska: Hunting Regulations for the 2007 Spring/Summer Harvest,” issued August 15, 2006. Copies are available from the address indicated under the caption ADDRESSES.

Energy Supply, Distribution, or Use (Executive Order 13211)

On May 18, 2001, the President issued Executive Order 13211 on regulations that significantly affect energy supply, distribution, and use. Executive Order 13211 requires agencies to prepare Statements of Energy Effects when undertaking certain actions. Because this rule would allow only for traditional subsistence harvest and would improve conservation of migratory birds by allowing effective regulation of this harvest, it is not a significant regulatory action under Executive Order 12866. Consequently, it is not expected to significantly affect energy supplies, distribution, and use. Therefore, this action is not a significant energy action under Executive Order 13211 and no Statement of Energy Effects is required.

List of Subjects in 50 CFR Part 92

Exports, Hunting, Imports, Reporting and recordkeeping requirements, Subsistence, Treaties, Wildlife.

For the reasons set out in the preamble, we propose to amend title 50, chapter I, subchapter G, of the Code of Federal Regulations as follows:

PART 92—MIGRATORY BIRD SUBSISTENCE HARVEST IN ALASKA

1. The authority citation for part 92 continues to read as follows:

Authority: 16 U.S.C. 703-712.

Subpart A—General Provisions

2. In subpart A, amend § 92.5 by:

a. Removing paragraph (a)(3);

b. Revising the introductory text and paragraphs (a)(1), (a)(2) introductory text, (a)(2)(iv), and (b) to read as follows:

§ 92.5 Who is eligible to participate?

If you are a permanent resident of a village within a subsistence harvest area, you will be eligible to harvest migratory birds and their eggs for subsistence purposes during the applicable periods specified in subpart D of this part.

(a) * * *

(1) Any person may request the Co-management Council to recommend that an otherwise included area be excluded by submitting a petition stating how the area does not meet the criteria identified in paragraph (c) of this section. The Co-management Council will forward petitions to the appropriate regional management body. The Co-management Council will then consider each petition and will submit to the Service any recommendations to exclude areas from the spring and summer subsistence harvest. The Service will publish any approved recommendations for public comment in the Federal Register.

(2) Based on petitions for inclusion recommended by the Co-management Council, the Service has added the following communities to the included areas under this part:

* * * * *

(iv) Southeast Alaska Region—Hoonah, Craig, Hydaburg, and Yakutat.

(b) Excluded areas. Excluded areas are not subsistence harvest areas and are closed to harvest. Residents of excluded areas are not eligible persons as defined in § 92.4. Communities located within the excluded areas provided in paragraphs (b)(2) and (b)(3) of this section may petition the Co-management Council through their regional management body for designation as a spring and summer subsistence harvest area. The petition must state how the community meets the criteria identified in paragraph (c) of this section. The Co-management Council will consider each petition and will submit to the Service any recommendations to designate a community as a spring and summer subsistence harvest area. The Service will publish any approved new designations of communities for public comment in the Federal Register. Excluded areas consist of the following:

(1) All areas outside of Alaska.

(2) Village areas located in Anchorage, the Matanuska-Susitna Borough, the Kenai Peninsula roaded area, the Gulf of Alaska roaded area, Southeast Alaska, and the Central Interior Excluded Area as described in paragraph (b)(3) of this section generally do not qualify for a spring and summer harvest.

(3) The Central Interior Excluded Area comprises the following: That portion of Unit 20(A) east of the Wood River drainage and south of Rex Trail, including the upper Wood River drainage south of its confluence with Chicken Creek; that portion of Unit 20(C) east of Denali National Park north to Rock Creek and east to Unit 20(A); and that portion of Unit 20(D) west of the Tanana River between its confluence with the Johnson and Delta Rivers, west of the east bank of the Johnson River, and north and west of the Volmar drainage, including the Goodpaster River drainage. The following communities are within the Excluded Area: Delta Junction/Big Delta/Fort Greely, McKinley Park/Village, Healy, Ferry plus all residents of the formerly named Fairbanks North Star Borough Excluded Area.

* * * * *

Subpart C—General Regulations Governing Subsistence Harvest

3. In subpart C, amend § 92.20 by:

a. Removing “or” from the end of paragraph (i);

b. Removing the period from, and adding in its place “; or” at the end of paragraph (j); and

c. Adding a new paragraph (k) to read as follows:

§ 92.20 Methods and means.

* * * * *

(k) By the aid of baiting, or on or over any baited area, where a person knows or reasonably should know that the area is or has been baited, as provided at 50 CFR 20.21(i) and 16 U.S.C. 704(b).

Subpart D—Annual Regulations Governing Subsistence Harvest

4. In subpart D, revise §§ 92.31 through 92.33 to read as follows:

§ 92.31 Migratory bird species closed to subsistence harvest.

(a) Because of conservation concerns, you may not harvest birds or gather eggs from the following species in 2007:

(1) Spectacled Eider (Somateria fischeri).

(2) Steller's Eider (Polysticta stelleri).

(3) Emperor Goose (Chen canagica).

(4) Aleutian Canada Goose (Branta canadensis leucopareia)—Semidi Islands only.

(5) Yellow-billed Loons (Gavia adamsii)—Except that in the North Slope Region only, up to 20 yellow-billed loons total for the region may be inadvertently caught in fishing nets and kept for subsistence purposes.

(b) In addition, you may not gather eggs from the following species in 2007:

(1) Cackling Canada Goose (Branta canadensis minima).

(2) Black Brant (Branta bernicla nigricans)—in the Yukon/Kuskokwim Delta and North Slope regions only.

§ 92.32 Subsistence migratory bird species.

You may harvest birds or gather eggs from the following species, listed in taxonomic order, within all included areas. When birds are listed only to the species level, all subspecies existing in Alaska are open to harvest.

(a) Family Anatidae.

(1) Greater White-fronted Goose (Anser albifrons).

(2) Snow Goose (Chen caerulescens).

(3) Lesser Canada Goose (Branta canadensis parvipes).

(4) Taverner's Canada Goose (Branta canadensis taverneri).

(5) Aleutian Canada Goose (Branta canadensis leucopareia)—except in the Semidi Islands.

(6) Cackling Canada Goose (Branta canadensis minima)—except no egg gathering is permitted.

(7) Black Brant (Branta bernicla nigricans)—except no egg gathering is permitted in the Yukon/Kuskokwim Delta and the North Slope regions.

(8) Tundra Swan (Cygnus columbianus)—except in Units 9(D) and 10.

(9) Gadwall (Anas strepera).

(10) Eurasian Wigeon (Anas penelope).

(11) American Wigeon (Anas americana).

(12) Mallard (Anas platyrhynchos).

(13) Blue-winged Teal (Anas discors).

(14) Northern Shoveler (Anas clypeata).

(15) Northern Pintail (Anas acuta).

(16) Green-winged Teal (Anas crecca).

(17) Canvasback (Aythya valisineria).

(18) Redhead (Aythya americana).

(19) Ring-necked Duck (Aythya collaris).

(20) Greater Scaup (Aythya marila).

(21) Lesser Scaup (Aythya affinis).

(22) King Eider (Somateria spectabilis).

(23) Common Eider (Somateria mollissima).

(24) Harlequin Duck (Histrionicus histrionicus).

(25) Surf Scoter (Melanitta perspicillata).

(26) White-winged Scoter (Melanitta fusca).

(27) Black Scoter (Melanitta nigra).

(28) Long-tailed Duck (Clangula hyemalis).

(29) Bufflehead (Bucephala albeola).

(30) Common Goldeneye (Bucephala clangula).

(31) Barrow's Goldeneye (Bucephala islandica).

(32) Hooded Merganser (Lophodytes cucullatus).

(33) Common Merganser (Mergus merganser).

(34) Red-breasted Merganser (Mergus serrator).

(b) Family Gaviidae.

(1) Red-throated Loon (Gavia stellata).

(2) Arctic Loon (Gavia arctica).

(3) Pacific Loon (Gavia pacifica).

(4) Common Loon (Gavia immer).

(5) Yellow-billed Loon (Gavia adamsii)—In the North Slope Region only, a total of up to 20 yellow-billed loons inadvertently caught in fishing nets may be kept for subsistence purposes.

(c) Family Podicipedidae.

(1) Horned Grebe (Podiceps auritus).

(2) Red-necked Grebe (Podiceps grisegena).

(d) Family Procellariidae.

(1) Northern Fulmar (Fulmarus glacialis).

(2) [Reserved].

(e) Family Phalacrocoracidae.

(1) Double-crested Cormorant (Phalacrocorax auritus).

(2) Pelagic Cormorant (Phalacrocorax pelagicus).

(f) Family Gruidae.

(1) Sandhill Crane (Grus canadensis).

(2) [Reserved].

(g) Family Charadriidae.

(1) Black-bellied Plover (Pluvialis squatarola).

(2) Common Ringed Plover (Charadrius hiaticula).

(h) Family Haematopodidae.

(1) Black Oystercatcher (Haematopus bachmani).

(2) [Reserved].

(i) Family Scolopacidae.

(1) Greater Yellowlegs (Tringa melanoleuca).

(2) Lesser Yellowlegs (Tringa flavipes).

(3) Spotted Sandpiper (Actitis macularia).

(4) Bar-tailed Godwit (Limosa lapponica).

(5) Ruddy Turnstone (Arenaria interpres).

(6) Semipalmated Sandpiper (Calidris pusilla).

(7) Western Sandpiper (Calidris mauri).

(8) Least Sandpiper (Calidris minutilla).

(9) Baird's Sandpiper (Calidris bairdii).

(10) Sharp-tailed Sandpiper (Calidris acuminata).

(11) Dunlin (Calidris alpina).

(12) Long-billed Dowitcher (Limnodromus scolopaceus).

(13) Common Snipe (Gallinago gallinago).

(14) Red-necked phalarope (Phalaropus lobatus).

(15) Red phalarope (Phalaropus fulicaria).

(j) Family Laridae.

(1) Pomarine Jaeger (Stercorarius pomarinus).

(2) Parasitic Jaeger (Stercorarius parasiticus).

(3) Long-tailed Jaeger (Stercorarius longicaudus).

(4) Bonaparte's Gull (Larus philadelphia).

(5) Mew Gull (Larus canus).

(6) Herring Gull (Larus argentatus).

(7) Slaty-backed Gull (Larus schistisagus).

(8) Glaucous-winged Gull (Larus glaucescens).

(9) Glaucous Gull (Larus hyperboreus).

(10) Sabine's Gull (Xema sabini).

(11) Black-legged Kittiwake (Rissa tridactyla).

(12) Red-legged Kittiwake (Rissa brevirostris).

(13) Ivory Gull (Pagophila eburnea).

(14) Arctic Tern (Sterna paradisaea).

(15) Aleutian Tern (Sterna aleutica).

(k) Family Alcidae.

(1) Common Murre (Uria aalge).

(2) Thick-billed Murre (Uria lomvia).

(3) Black Guillemot (Cepphus grylle).

(4) Pigeon Guillemot (Cepphus columba).

(5) Cassin's Auklet (Ptychoramphus aleuticus).

(6) Parakeet Auklet (Aethia psittacula).

(7) Least Auklet (Aethia pusilla).

(8) Whiskered Auklet (Aethia pygmaea).

(9) Crested Auklet (Aethia cristatella).

(10) Rhinoceros Auklet (Cerorhinca monocerata).

(11) Horned Puffin (Fratercula corniculata).

(12) Tufted Puffin (Fratercula cirrhata).

(l) Family Strigidae.

(1) Great Horned Owl (Bubo virginianus).

(2) Snowy Owl (Nyctea scandiaca).

§ 92.33 Region-specific regulations.

The 2007 season dates for the eligible subsistence harvest areas are as follows:

(a) Aleutian/Pribilof Islands Region.

(1) Northern Unit (Pribilof Islands):

(i) Season: April 2-June 30.

(ii) Closure: July 1-August 31.

(2) Central Unit (Aleut Region's eastern boundary on the Alaska Peninsula westward to and including Unalaska Island):

(i) Season: April 2-June 15 and July 16-August 31.

(ii) Closure: June 16-July 15.

(iii) Special Black Brant Season Closure: August 16-August 31, only in Izembek and Moffet lagoons.

(iv) Special Tundra Swan Closure: All hunting and egg gathering closed in units 9(D) and 10.

(3) Western Unit (Umnak Island west to and including Attu Island):

(i) Season: April 2-July 15 and August 16-August 31.

(ii) Closure: July 16-August 15.

(b) Yukon/Kuskokwim Delta Region.

(1) Season: April 2-August 31.

(2) Closure: 30-day closure dates to be announced by the Service's Alaska Regional Director or his designee, after consultation with local subsistence users, field biologists, and the Association of Village Council President's Waterfowl Conservation Committee. This 30-day period will occur between June 1 and August 15 of each year. A press release announcing the actual closure dates will be forwarded to regional newspapers and radio and television stations and posted in village post offices and stores.

(3) Special Black Brant and Cackling Goose Season Hunting Closure: From the period when egg laying begins until young birds are fledged. Closure dates to be announced by the Service's Alaska Regional Director or his designee, after consultation with field biologists and the Association of Village Council President's Waterfowl Conservation Committee. A press release announcing the actual closure dates will be forwarded to regional newspapers and radio and television stations and posted in village post offices and stores.

(4) Special Area Closure:

(i) The following described goose nesting colonies are closed to all hunting and egg gathering from the period of nest initiation until young birds are fledged:

(A) Kokechik Bay Colony—bounded by 61.61°N to 61.67°N and 165.83°W to 166.08°W;

(B) Tutakoke River Colony—bounded by 61.20°N to 61.28°N and 165.08°W to 165.13°W;

(C) Kigigak Island Colony—bounded by islan's edge;

(D) Baird Peninsula Colony—bounded by 60.87° N to 60.91° N and 164.65° W to 165.80° W; and

(E) Baird Island Colony—bounded by island's edge.

(ii) Closure dates to be announced by the Alaska Regional Director or his designee, after consultation with field biologists and the Association of Village Council President's Waterfowl Conservation Committee. A press release announcing the actual closure dates will be forwarded to regional newspapers and radio and television stations and posted in village post offices and stores.

(c) Bristol Bay Region.

(1) Season: April 2-June 14 and July 16-August 31 (general season); April 2-July 15 for seabird egg gathering only.

(2) Closure: June 15-July 15 (general season); July 16-August 31 (seabird egg gathering).

(d) Bering Strait/Norton Sound Region.

(1) Stebbins/St. Michael Area (Point Romanof to Canal Point):

(i) Season: April 15-June 14 and July 16-August 31.

(ii) Closure: June 15-July 15.

(2) Remainder of the region:

(i) Season: April 2-June 14 and July 16-August 31 for waterfowl; April 2-July 19 and August 21-August 31 for all other birds.

(ii) Closure: June 15-July 15 for waterfowl; July 20-August 20 for all other birds.

(e) Kodiak Archipelago Region, except for the Kodiak Island roaded area, is closed to the harvesting of migratory birds and their eggs. The closed area consists of all lands and waters (including exposed tidelands) east of a line extending from Crag Point in the north to the west end of Saltery Cove in the south and all lands and water south of a line extending from Termination Point along the north side of Cascade Lake extending to Anton Larson Bay. Waters adjacent to the closed area are closed to harvest within 500 feet from the water's edge. The offshore islands are open to harvest.

(1) Season: April 2-June 20 and July 22-August 31; egg gathering: May 1-June 20 only.

(2) Closure: June 21-July 21.

(f) Northwest Arctic Region.

(1) Season: April 2-June 9 and August 15-August 31 (hunting in general); waterfowl egg gathering May 20-June 9 only; seabird egg gathering July 3-July 12 only; hunting molting/non-nesting waterfowl July 1-July 31 only.

(2) Closure: June 10-August 14, except for the taking of seabird eggs and molting/non-nesting waterfowl as provided in paragraph (f)(1) of this section.

(g) North Slope Region.

(1) Southern Unit (Southwestern North Slope regional boundary east to Peard Bay, everything west of the longitude line 158°30′ W and south of the latitude line 70°45′ N to the west bank of the Ikpikpuk River, and everything south of the latitude line 69°45′ N between the west bank of the Ikpikpuk River to the east bank of Sagavinirktok River):

(i) Season: April 2-June 29 and July 30-August 31 for seabirds; April 2-June 19 and July 20-August 31 for all other birds.

(ii) Closure: June 30-July 29 for seabirds; June 20-July 19 for all other birds.

(2) Northern Unit (At Peard Bay, everything east of the longitude line 158°30′ W and north of the latitude line 70°45′ N to west bank of the Ikpikpuk River, and everything north of the latitude line 69°45′ N between the west bank of the Ikpikpuk River to the east bank of Sagavinirktok River):

(i) Season: April 6-June 6 and July 7-August 31 for king and common eiders and April 2-June 15 and July 16-August 31 for all other birds.

(ii) Closure: June 7-July 6 for king and common eiders; June 16-July 15 for all other birds.

(3) Eastern Unit (East of eastern bank of the Sagavanirktok River):

(i) Season: April 2-June 19 and July 20-August 31.

(ii) Closure: June 20-July 19.

(4) All Units: yellow-billed loons. Annually, up to 20 yellow-billed loons total for the region may be caught inadvertently in subsistence fishing nets in the North Slope Region and kept for subsistence use. Individuals must report each yellow-billed loon inadvertently caught while subsistence gill net fishing to the North Slope Borough Department of Wildlife Management by the end of the season.

(h) Interior Region.

(1) Season: April 2-June 14 and July 16-August 31; egg gathering May 1-June 14 only.

(2) Closure: June 15-July 15.

(i) Upper Copper River (Harvest Area: State of Alaska Game Management Units 11 and 13) (Eligible communities: Gulkana, Chitina, Tazlina, Copper Center, Gakona, Mentasta Lake, Chistochina and Cantwell).

(1) Season: April 15-May 26 and June 27-August 31.

(2) Closure: May 27-June 26.

(3) The Copper River Basin communities listed above also documented traditional use harvesting birds in Unit 12, making them eligible to hunt in this unit during the seasons specified in paragraph (h) of this section.

(j) Gulf of Alaska Region.

(1) Prince William Sound Area (Harvest area: Unit 6 [D]), (Eligible Chugach communities: Chenega Bay, Tatitlek).

(i) Season: April 2-May 31 and July 1-August 31.

(ii) Closure: June 1-30.

(2) Kachemak Bay Area (Harvest area: Unit 15[C] South of a line connecting the tip of Homer Spit to the mouth of Fox River) (Eligible Chugach communities: Port Graham, Nanwalek).

(i) Season: April 2-May 31 and July 1-August 31.

(ii) Closure: June 1-30.

(k) Cook Inlet (Harvest area: portions of Unit 16[B] as specified below) (Eligible communities: Tyonek only).

(1) Season: April 2 May-31—That portion of Unit 16(B) south of the Skwentna River and west of the Yentna River, and August 1-31—That portion of Unit 16(B) south of the Beluga River, Beluga Lake, and the Triumvirate Glacier.

(2) Closure: June 1-July 31.

(l) Southeast Alaska.

(1) Community of Hoonah (Harvest area: National Forest lands in Icy Strait and Cross Sound, including Middle Pass Rock near the Inian Islands, Table Rock in Cross Sound, and other traditional locations on the coast of Yakobi Island. The land and waters of Glacier Bay National Park remain closed to all subsistence harvesting [50 CFR Part 100.3]).

(i) Season: glaucous-winged gull egg gathering only: May 15-June 30.

(ii) Closure: July 1-August 31.

(2) Communities of Craig and Hydaburg (Harvest area: small islands and adjacent shoreline of western Prince of Wales Island from Point Baker to Cape Chacon, but also including Coronation and Warren islands).

(i) Season: glaucous-winged gull egg gathering only: May 15-June 30.

(ii) Closure: July 1-August 31.

(1) Community of Yakutat (Harvest area: Icy Bay [Icy Cape to Pt. Riou], and coastal lands and islands bordering the Gulf of Alaska from Pt. Manby southeast to Dry Bay).

(i) Season: glaucous-winged gull egg gathering only: May 15-June 30.

(ii) Closure: July 1-August 31.

Dated: November 21, 2006.
David M. Verhey,
Acting Assistant Secretary for Fish and Wildlife and Parks.

[FR Doc. 06-9492 Filed 12-12-06; 8:45 am]

BILLING CODE 4310-55-P